DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995 (44 U.S.C. 3506(c)(2)(A)), this notice seeks comments concerning the adequacy of two forms FEMA uses to gather certain information about the floodplain management activities of communities that participate in the National Flood Insurance Program (NFIP). The Community Contact Report form and the Community Visit Report form are used to gather information about a community's floodplain management regulations, administrative and enforcement procedures, Flood Insurance Studies, and basic information pertaining to names, addresses, and phone numbers of individuals responsible for a community's floodplain management program.

SUPPLEMENTARY INFORMATION: The information gathered on the subject forms pertain to a community's participation in the NFIP. The NFIP was established by the National Flood Insurance Act of 1968. Section 1315 of the Act requires the adoption of permanent land use and control measures which are consistent with the comprehensive criteria of land management and use under Section 1361. 44 CFR part 59.24 establishes requirements for continued eligibility to participate in the NFIP based upon implementing an adequate community based floodplain management program. The information gathered with the subject forms is used to evaluate the adequacy of a community's floodplain management program as it relates to continued participation in the NFIP.

Collection of Information:

Title: Effectiveness of a Community's Implementation of the NFIP Community Assistance Program CAC and CAV Reports.

Type of Information Collection: Extension of Currently Approved Collection.

OMB Number: 1660-0023.

Form Numbers: Form 81-68 (Community Visit Report); Form 81-69 (Community Contact Report).

Abstract: The information obtained is to provide basic information about a community's floodplain management program and contact information such as names, addresses, and phone numbers pertaining to a NFIP participating community. FEMA Regional Office staff and staff of an NFIP State Coordinating Agency, acting on behalf of FEMA, use the forms to record information gathered about a community following contact and discussion with community officials.

Affected Public: State, Local, Tribal and Federal Governments.

Estimated Total Annual Burden Hours: 4,000 hours.

FEMA forms | No. of respondents (A) | Frequency of response (B) | Hours per response (C) | Annual burden hours (A x B x C)
FF 81-68 | 1,000 | 1 | 2 | 2,000
FF 81-69 | 2,000 | 1 | 1 | 2,000
Total | 3,000 | 1 |  | 4,000

Estimated Cost: $95, 434 all respondents combined with average cost per respondent of $47.66 per response.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact William Lesser, Lead Program Specialist at 202-646-2807 for additional information. You may contact the Records Management Branch for copies of the proposed collection of information at facsimile number (202) 646-3347 or e-mail address: FEMA-Information-Collections@dhs.gov.

Dated: September 9, 2005.
Darcy Bingham,
Branch Chief, Information Resources Management Branch, Information Technology Services Division.

[FR Doc. 05-18557 Filed 9-16-05; 8:45 am]

BILLING CODE 9110-12-P